SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: October 1—31, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22 (f) for the time period specified above.

Water Source Approval—Issued Under 18 CFR 806.22(f)

1. Range Resources—Appalachia, LLC; Pad ID: Laurel Hill 17-22; ABR-202410001; Jackson Township, Lycoming County, Pa.; Consumptive Use of Up to 4.0000 mgd; Approval Date: October 8, 2024.

2. RENEWAL—EQT ARO LLC; Pad ID: Bonnel Run H&F Pad D; ABR-201404003.R2; Pine Township, Lycoming County, Pa.; Consumptive Use of Up to 4.0000 mgd; Approval Date: October 8, 2024.

3. RENEWAL—EQT ARO LLC; Pad ID: COP 252 Pad B; ABR-20090445.R3; Grugan Township, Clinton County, Pa.; Consumptive Use of Up to 4.0000 mgd; Approval Date: October 8, 2024.

4. RENEWAL—Pennsylvania General Energy Company, L.L.C.; Pad ID: COP Tract 596 Pad A; ABR-201909004.R1; Liberty Township, Tioga County, Pa.; Consumptive Use of Up to 4.9000 mgd; Approval Date: October 8, 2024.

5. RENEWAL—Range Resources—Appalachia, LLC; Pad ID: Cornwall B Unit 1H-4H; ABR-201405003.R2; Lewis Township, Lycoming County, Pa.; Consumptive Use of Up to 4.0000 mgd; Approval Date: October 8, 2024.

6. RENEWAL—Repsol Oil & Gas USA, LLC; Pad ID: HARRIS (01 012) A; ABR-20090523.R3; Armenia Township, Bradford County, Pa.; Consumptive Use of Up to 6.0000 mgd; Approval Date: October 8, 2024.

7. RENEWAL—Repsol Oil & Gas USA, LLC; Pad ID: OLD MINE ROAD (02 188); ABR-201909003.R1; Hamilton Township, Tioga County, Pa.; Consumptive Use of Up to 6.0000 mgd; Approval Date: October 8, 2024.

8. RENEWAL—Blackhill Energy LLC; Pad ID: Houseknecht 2H; ABR-20090419.R3; Springfield Township, Bradford County, Pa.; Consumptive Use of Up to 1.5000 mgd; Approval Date: October 23, 2024.

9. RENEWAL—Blackhill Energy LLC; Pad ID: Housknecht 1H; ABR-20090423.R3; Springfield Township, Bradford County, Pa.; Consumptive Use of Up to 1.5000 mgd; Approval Date: October 23, 2024.

10. RENEWAL—Blackhill Energy LLC; Pad ID: Housknecht 3H; ABR-20090422.R3; Springfield Township, Bradford County, Pa.; Consumptive Use of Up to 7.5000 mgd; Approval Date: October 23, 2024.

11. RENEWAL—Blackhill Energy LLC; Pad ID: Ward M 1H; ABR-20090421.R3; Springfield Township, Bradford County, Pa.; Consumptive Use of Up to 1.5000 mgd; Approval Date: October 23, 2024.

12. RENEWAL—Chesapeake Appalachia, L.L.C.; Pad ID: Phelps B Drilling Pad; ABR-201409001.R2; Lathrop Township, Susquehanna County, Pa.; Consumptive Use of Up to 7.5000 mgd; Approval Date: October 23, 2024.

13. RENEWAL—Coterra Energy Inc.; Pad ID: Friedland Farms P1; ABR-201405009.R2; Lenox Township, Susquehanna County, Pa.; Consumptive Use of Up to 5.0000 mgd; Approval Date: October 23, 2024.

14. RENEWAL—Coterra Energy Inc.; Pad ID: Gesford P1; ABR-20090547.R3; Dimock Township, Susquehanna County, Pa.; Consumptive Use of Up to 5.0000 mgd; Approval Date: October 23, 2024.

15. RENEWAL—Coterra Energy Inc.; Pad ID: Gesford P4; ABR-20090550.R3; Dimock Township, Susquehanna County, Pa.; Consumptive Use of Up to 5.0000 mgd; Approval Date: October 23, 2024.

16. RENEWAL—Coterra Energy Inc.; Pad ID: Greenwood P1; ABR-20090548.R3; Dimock Township, Susquehanna County, Pa.; Consumptive Use of Up to 5.0000 mgd; Approval Date: October 23, 2024.

17. RENEWAL—Coterra Energy Inc.; Pad ID: PijanowskiJ P1; ABR-201404002.R2; Springville Township, Susquehanna County, Pa.; Consumptive Use of Up to 5.0000 mgd; Approval Date: October 23, 2024.

18. RENEWAL—Coterra Energy Inc.; Pad ID: SlocumS P1; ABR-201403015.R2; Jackson Township, Susquehanna County, Pa.; Consumptive Use of Up to 5.0000 mgd; Approval Date: October 23, 2024.

19. RENEWAL—EQT ARO LLC; Pad ID: COP 259 Pad A; ABR-20090513.R3; Burnside Township, Centre County, Pa.; Consumptive Use of Up to 4.0000 mgd; Approval Date: October 23, 2024.

20. RENEWAL—EQT ARO LLC; Pad ID: COP 259 Pad B; ABR-20090440.R3; Burnside Township, Centre County, Pa.; Consumptive Use of Up to 4.0000 mgd; Approval Date: October 23, 2024.

21. RENEWAL—EQT ARO LLC; Pad ID: COP Tr 551 A; ABR-201404008.R2; McIntyre Township, Lycoming County, Pa.; Consumptive Use of Up to 4.0000 mgd; Approval Date: October 23, 2024.

22. RENEWAL—EQT ARO LLC; Pad ID: Marilyn Ely Pad A; ABR-201404009.R2; Gamble Township, Lycoming County, Pa.; Consumptive Use of Up to 4.0000 mgd; Approval Date: October 23, 2024.

23. RENEWAL—Repsol Oil & Gas USA, LLC; Pad ID: Harer 713; ABR-201206004.R2; Liberty Township, Tioga County, Pa.; Consumptive Use of Up to 6.0000 mgd; Approval Date: October 23, 2024.

24. RENEWAL—Repsol Oil & Gas USA, LLC; Pad ID: SHERMAN (03 144) M; ABR-201910001.R1; Columbia Township, Bradford County, Pa.; Consumptive Use of Up to 6.0000 mgd; Approval Date: October 23, 2024.

25. RENEWAL—Repsol Oil & Gas USA, LLC; Pad ID: WARNER (05 121) W; ABR-201906001.R1; Rush Township, Susquehanna County, Pa.; Consumptive Use of Up to 6.0000 mgd; Approval Date: October 23, 2024.

26. RENEWAL—Seneca Resources Company, LLC; Pad ID: D.M. Pino Pad H; ABR-20090933.R3; Covington Township, Tioga County, Pa.; Consumptive Use of Up to 4.0000 mgd; Approval Date: October 23, 2024.

27. RENEWAL—Seneca Resources Company, LLC; Pad ID: PHC 23H/24H; ABR-20090917.R3; Lawrence Township, Clearfield County, Pa.; Consumptive Use of Up to 4.0000 mgd; Approval Date: October 23, 2024.

28. RENEWAL—Seneca Resources Company, LLC; Pad ID: PHC 28H/29H; ABR-20090918.R3; Lawrence Township, Clearfield County, Pa.; Consumptive Use of Up to 4.0000 mgd; Approval Date: October 23, 2024.

29. RENEWAL—SWN Production Company, LLC; Pad ID: Ivey Pad Site; ABR-20090608.R3; Forest Lake Township, Susquehanna County, Pa.; Consumptive Use of Up to 4.9990 mgd; Approval Date: October 23, 2024.

30. RENEWAL—SWN Production Company, LLC; Pad ID: NR-03-COLWELL WEST-PAD; ABR-201406002.R2; New Milford Township, Susquehanna County, Pa.; Consumptive Use of Up to 4.9999 mgd; Approval Date: October 23, 2024.

31. RENEWAL—SWN Production Company, LLC; Pad ID: NR-17-COLEMAN-PAD; ABR-201406003.R2; Great Bend Township, Susquehanna County, Pa.; Consumptive Use of Up to 4.9990 mgd; Approval Date: October 23, 2024.

32. RENEWAL—Coterra Energy Inc.; Pad ID: Heitsman P1; ABR-20090537.R3; Dimock Township, Susquehanna County, Pa.; Consumptive Use of Up to 5.0000 mgd; Approval Date: October 27, 2024.

33. RENEWAL—Coterra Energy Inc.; Pad ID: HeitsmanA P2; ABR-20090552.R3; Dimock Township, Susquehanna County, Pa.; Consumptive Use of Up to 5.0000 mgd; Approval Date: October 27, 2024.

34. RENEWAL—Coterra Energy Inc.; Pad ID: Hubbard P1; ABR-20090545.R3; Dimock Township, Susquehanna County, Pa.; Consumptive Use of Up to 5.0000 mgd; Approval Date: October 27, 2024.

35. RENEWAL—Coterra Energy Inc.; Pad ID: PlonskiI P1; ABR-201405008.R2; Gibson Township, Susquehanna County, Pa.; Consumptive Use of Up to 5.0000 mgd; Approval Date: October 27, 2024.

36. RENEWAL—Chesapeake Appalachia, L.L.C.; Pad ID: Trowbridge; ABR-201909001.R1; Windham Township, Wyoming County, Pa.; Consumptive Use of Up to 7.5000 mgd; Approval Date: October 29, 2024.

37. RENEWAL—Chesapeake Appalachia, L.L.C.; Pad ID: Welles 2; ABR-20090940.R3; Terry Township, Bradford County, Pa.; Consumptive Use of Up to 7.5000 mgd; Approval Date: October 29, 2024.

38. RENEWAL—Coterra Energy Inc.; Pad ID: Lathrop P1; ABR-20090538.R3; Springville Township, Susquehanna County, Pa.; Consumptive Use of Up to 5.0000 mgd; Approval Date: October 29, 2024.

39, RENEWAL—Coterra Energy Inc.; Pad ID: Ratzel P1; ABR-20090539.R3; Dimock Township, Susquehanna County, Pa.; Consumptive Use of Up to 5.0000 mgd; Approval Date: October 29, 2024.

40. RENEWAL—Coterra Energy Inc.; Pad ID: Rozanski P1; ABR-20090553.R3; Dimock Township, Susquehanna County, Pa.; Consumptive Use of Up to 5.0000 mgd; Approval Date: October 29, 2024.

41. RENEWAL—Coterra Energy Inc.; Pad ID: SevercoolB P1; ABR-20090536.R3; Dimock Township, Susquehanna County, Pa.; Consumptive Use of Up to 5.0000 mgd; Approval Date: October 29, 2024.

42. RENEWAL—Coterra Energy Inc.; Pad ID: Smith P1; ABR-20090540.R3; Springville Township, Susquehanna County, Pa.; Consumptive Use of Up to 5.0000 mgd; Approval Date: October 29, 2024.

Authority: Public Law 91-575, 84 Stat. 1509 et seq., 18 CFR parts 806 and 808.

Dated: November 7, 2024.
Jason E. Oyler,
General Counsel and Secretary to the Commission.

[FR Doc. 2024-26233 Filed 11-12-24; 8:45 am]

BILLING CODE 7040-01-P